DEPARTMENT OF JUSTICE

Antitrust Division

Notice Pursuant to the National Cooperative Research and Production Act of 1993—Alliance for OpenUSD Series LLC

Notice is hereby given that, on October 30, 2023, pursuant to section 6(a) of the National Cooperative Research and Production Act of 1993, 15 U.S.C. 4301 et seq. (“the Act”), Alliance for OpenUSD Series LLC (“AOUSD”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Alliance for OpenUSD Series LLC, series of Joint Development Foundation Projects, LLC, Dover, DE. The nature and scope of AOUSD's standards development activities are: standardizing, developing, and evolving Universal Scene Description (USD) in an open forum to promote interoperability of 3D content to empower creators and consumers worldwide. AOUSD will initially focus on standardizing essential features of USD (including technical details or requirements on composition model, file format, data model, and schema) that are stable, understood, implemented and important for 3D authoring and transmission. In the future, AOUSD may also develop additional standards specifications to promote interoperability of 3D content through USD. AOUSD will also develop educational, marketing, and informational materials to facilitate the understanding and adoption of its standards.

Suzanne Morris,
Deputy Director Civil Enforcement Operations, Antitrust Division.

[FR Doc. 2023-27580 Filed 12-14-23; 8:45 am]

BILLING CODE P